DEPARTMENT OF HEALTH AND HUMAN SERVICES

Centers for Disease Control and Prevention

[60Day-02-22]

Proposed Data Collections Submitted for Public Comment and Recommendations

In compliance with the requirement of section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 639-7090.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Anne O'Connor, CDC Assistant Reports Clearance Officer, 1600 Clifton Road, MS-D24, Atlanta, GA 30333. Written comments should be received within 60 days of this notice.

Proposed Project: Anthropometric Survey of Respirator Users—NEW—The National Institute for Occupational Safety and Health (NIOSH), Centers for Disease Control and Prevention (CDC). The mission of the National Institute for Occupational Safety and Health is to promote safety and health at work for all people through research and prevention.

The overall goal of the current project is to develop respirator fit-test panels that accurately represent today's workers who rely on respirators to prevent work-related respiratory illnesses, injuries, and death. The respirator fit-test panels currently used are 25-subject panels, developed by Los Alamos National Laboratory (LANL) based on data from the 1967-1968 survey of U.S. Air Force men and women. The half-mask panel is based on face length and lip length and the full-facepiece panel is based on face length and face width. These panels were established to represent the working population. The fit of respirators on these subject panels is assumed to be representative of the fit of respirators in the user populations. Respirators designed to fit these panels are also expected to accommodate at least 95% of the wearers. However, NIOSH research indicated that the LANL panel for full-facepiece respirators accommodated only 84% of current civilian subjects. Sizing data generated by the military for use in fitting respirators has been the normative basis for commercial respirator sizing. Anthropometric data developed for males of military age in the 1950's and 1960's is still in use today. Military populations cannot represent the worker population because of relatively strict anthropometric armed forces entry requirements and height/weight guidelines for troop retention. Personal protective equipment designed and sized for a military population may not provide the same level of protection to civilian workers because of the greater diversity in body size and shape seen in civilian populations. In addition, the demographics of the U.S. population have changed over the last 30 years. Thus, it is necessary to assess and refine the LANL fit-test panels.

This project will first develop an anthropometric database detailing the face-size distributions of respirator users using both traditional measurement methods and three-dimensional (3-D) scanning systems. The source population for this study will be the nationwide respirator users population. The databases will then be used to establish respirator fit-test panels that accurately represent today's workers. Three-dimensional anthropometry has only been available recently, and there is no track record of applying scan data to respirators. This study will provide preliminary data on which to develop methods for sizing and designing respirators and protective eyewear using 3-D scan data.

The subjects will be recruited from various industries in which workers rely on respirators to prevent work-related respiratory illnesses, injuries, and death (e.g., manufacturing, construction, mining, and health care). The project will also address emergency responders to chemical and biological terrorism and other crisis situations. Thus, subjects will also include law enforcement officers, firefighters, and health care workers. Height and weight plus 18 facial dimensions will be measured with traditional methods. A total of 4,000 subjects will be measured using traditional methods. Of those, 1,000 will be scanned using a 3-D head scanner (Cyberware Model 3030/RGB). The populations will be sampled by age, race and gender. A stratified sampling plan is being used with equal sample size in each cell (166). The strata consist of: 3 age groups (18-29, 30-44, and 45-65 years), 2 gender strata (male and female), and 4 ethnic groups (White, African Americans, Hispanic, and Others). The total number of cells is 24. The study will be conducted at five locations nationwide. Although test sites have yet to be determined, data collection is anticipated at two facilities in the western U.S., one in the central portion of the country, and at two locations in the east.

Information generated by this research project will benefit:

(1) The participants and workers exposed to various gases and aerosols by improving fit and function of respirators worn during work; and (2) those involved in testing, certifying, and manufacturing respirators to be used in industry, by providing them with fit-test panels that accurately represent today's workers. The panels can be used for evaluating respirator facepiece fit characteristics. The long-term potential benefits are improved respirator quality and performance and increased worker protection. There are no costs to respondents.

Respondents | Number of respondents | Number of responses respondent | Average burden per response (in hours) | Total burden in hours
Workers (Data Collection #1) | 3000 | 1 | 15/60 | 750
Workers (Data Collection #2) | 1000 | 1 | 20/60 | 333
Total |  |  |  | 1083

Dated: January 15, 2002.
Nancy E. Cheal,
Acting Associate Director for Program Planning and Evaluation, Centers for Disease Control and Prevention.

[FR Doc. 02-1690 Filed 1-23-02; 8:45 am]

BILLING CODE 4163-18-P